NATIONAL SCIENCE FOUNDATION

Sunshine Act Meetings

The National Science Board (NSB) hereby gives notice of the scheduling of meetings for the transaction of National Science Board business pursuant to the National Science Foundation Act and the Government in the Sunshine Act.

TIME AND DATE: Wednesday, February 15, 2023, from 11:00 a.m.-5:10 p.m. and Thursday, February 16, 2023, from 8:30 a.m.-2:25 p.m. EST.

PLACE: These meetings will be held at NSF headquarters, 2415 Eisenhower Avenue, Alexandria, VA 22314, and by videoconference. To attend in-person, please email your name as it appears on your photo ID, along with your affiliation, at least 24 hours in advance to nationalsciencebrd@nsf.gov. If the COVID status for Alexandria, Virginia goes to “high,” please fill out and bring OMB's certification of vaccination form with you. All open sessions of the meeting will be webcast live on the NSB YouTube channel.

February 15, 2023: https://www.youtube.com/watch?v=RIRJkqrLljU

February 16, 2023: https://www.youtube.com/watch?v=08Hx8vQfiFE

STATUS: Parts of these meetings will be open to the public. The rest of the meetings will be closed to the public. See full description below.

MATTERS TO BE CONSIDERED:

Wednesday, February 15, 2023

Plenary Board Meeting

Open Session: 11:00 p.m.-12:20 p.m.

• NSB Chair's Welcome

• Swearing in of new NSB Members

• NSB Chair's Remarks

• Chair's Activities

• Approval of December 1, 2022, open meeting minutes

• NSF Director's Remarks

• Assistant Director presentations

Open Session: 1:20 p.m.-2:35 p.m.

• NSB Teacher Panel: Presentation and Discussion

Open Session: 2:45 p.m.-3:55 p.m.

• Committee Reports

• Committee on Awards and Facilities

• Committee on Oversight

• Committee on External Engagement

• Committee on Science and Engineering Policy

• Working Group Reports

• Socioeconomic Status Working Group

• Merit Review Re-examination and Vote

• NSF Director's Remarks

• Senior staff updates

• Office of Legislative and Public Affairs Update Information Item

Open Session: 4:05 p.m.- 5:10 p.m.

• Explorations in K-12 STEM Education Working Group Presentation and Discussion

• NSB Chair's Closing Remarks

Thursday, February 16, 2023

Plenary Board Meeting

Open Session: 8:30 a.m.-9:05 a.m.

• NSB Chair's Welcome

• Update on SAHPR (Sexual Assault/Harassment Prevention Response)

Plenary Board Meeting

Closed Session: 9:05 a.m.-10:35 a.m.

• NSB Chair's Remarks

• NSF SAHPR Update

• NSF Director's Remarks

Agency Operating Status

• Approval of December 2, 2022, Closed Meeting Minutes

• Committee Reports

• Committee on Awards and Facilities Report Vote on Mid-scale Research Infrastructure Track 2 Portfolio Award

• Committee on Strategy Report

• Committee on Oversight Report

• Subcommittee on Technology, Innovation, and Partnerships Report

Committee on Strategy

Closed Session: 10:45 a.m.-11:45 p.m.

• Update and discussion on NSF's FY 2023 Current Plan

• Update and discussion on NSF's FY 2024 Budget Request

Plenary Board

Closed Session: 11:45 a.m.-12:15 p.m.

• NSF Update: CHIPS and Science Act Implementation

• Vote to Enter Executive Plenary Closed

Plenary Board

Closed (Executive) Session: 1:45 p.m.-2:25 p.m.

• NSB Chair's Opening Remarks

• Approval of December 2, 2022, Executive Plenary closed meeting minutes

• NSF Director's Remarks

Organizational Updates

Annual scientific award Updates

• Vote to establish ad hoc Nominations Committee

• NSB Chair's Closing Remarks

Meeting Adjourns: 2:25 p.m.

PORTIONS OPEN TO THE PUBLIC:

Wednesday, February 15, 2023

11:00 a.m.-12:20 p.m. Plenary NSB

1:20 p.m.-2:35 p.m. Plenary NSB

2:45 p.m.-3:55 p.m. Plenary NSB

4:05 p.m.-5:10 p.m. Plenary NSB

Thursday, February 16, 2023

8:30-9:05 a.m. Plenary NSB

PORTIONS CLOSED TO THE PUBLIC:

Thursday, February 16, 2023

9:05 a.m.-10:35 a.m. Plenary NSB

10:45 a.m.-11:45 a.m. Committee on Strategy Meeting

11:45 a.m.-12:15 p.m. Plenary NSB

1:45 p.m.-2:25 p.m. Plenary NSB, Executive Closed

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Chris Blair, cblair@nsf.gov, 703-292-7000. The NSB Public Affairs contact is Nadine Lymn, nlymn@nsf.gov, 703-292-2490. Please refer to the NSB website for additional information: https://www.nsf.gov/nsb.

Christopher Blair,
Executive Assistant to the National Science Board Office.

[FR Doc. 2023-03076 Filed 2-9-23; 11:15 am]

BILLING CODE 7555-01-P